DEPARTMENT OF COMMERCE

National Oceanic and Atmospheric Administration

RIN 0648-XQ06

Magnuson-Stevens Act Provisions; General Provisions for Domestic Fisheries; Application for Exempted Fishing Permits

AGENCY: National Marine Fisheries Service (NMFS), National Oceanic and Atmospheric Administration (NOAA), Commerce.

ACTION: Notification of a proposal to conduct exempted fishing; request for comments.

SUMMARY: The Assistant Regional Administrator for Sustainable Fisheries, Northeast Region, NMFS (Assistant Regional Administrator), has made a preliminary determination that the subject Exempted Fishing Permit (EFP) application that was submitted by the Cornell Cooperative Extension of Suffolk County (CCE) warrants further consideration and should be issued for public comment. The EFP would exempt participating vessels from summer flounder size restrictions and summer flounder minimum mesh size regulations. The Assistant Regional Administrator has also made a preliminary determination that the activities authorized under the EFP would be consistent with the goals and objectives of the Summer Flounder, Scup, and Black Sea Bass Fishery Management Plan (FMP). However, further review and consultation may be necessary before a final determination is made.

DATES: Comments must be received on or before July 28, 2009.

ADDRESSES: Comments may be submitted by e-mail to: nero.efp@noaa.gov. Include in the subject line of the e-mail comment the following document identifier: “Comments on CCE Inshore Fluke Discard EFP.” Written comments should be sent to Patricia A. Kurkul, Regional Administrator, NMFS, Northeast Regional Office, 55 Great Republic Drive, Gloucester, MA 01930. Mark the outside of the envelope, “Comments on CCE Inshore Fluke Discard EFP.” Comments may also be sent via facsimile (fax) to (978) 281-9135.

FOR FURTHER INFORMATION CONTACT: Anna Macan, Fishery Management Specialist, phone: 978-281-9165, fax: 978-281-9135.

SUPPLEMENTARY INFORMATION: In 2007, the Science and Research Director for NMFS's Northeast Fisheries Science Center selected the proposal submitted by the CCE under the Summer Flounder, Scup, and Black Sea Bass Research Set-Aside (RSA) titled: “Evaluation of Summer Flounder Discard Mortality in the Bottom Trawl Fishery.” The research was conducted to improve and enhance fishery information relative of discard mortality of summer flounder in the bottom trawl fishery. An extension to utilize available funds was granted to CCE, so an EFP to conduct additional research trips is being requested.

This EFP would allow for additional research trips to further enhance the existing data on mortality of trawl-caught summer flounder. The research would be carried out from July 2009 through July 2010, up to a total of 10 research trips, and would be in conjunction with normal fishing operations of the mixed trawl fishery. Only one vessel would be used for each trip, but up to six vessels could be used, depending on availability. Vessels would be compensated to make three specific tows for summer flounder to assess trawl mortality. Duration of these tows would be 1, 2, and 3 hours. Summer flounder from each tow would be culled and sorted between live and dead. Sorting would occur at predetermined time intervals until the deck is cleared of fish. The fish would then be weighed and, as time allows, scale and otolith samples from both groups would be collected. The research trips would be conducted inshore along the coast of southern Long Island from Jones Inlet to Montauk Point, reaching depths of 240 ft (73 m). Areas sampled would include NMFS statistical areas 611, 612, and 613. In order to conduct the research, the vessels would need exemptions from the summer flounder minimum fish size and mesh size regulations at §§ 648.103 and 648.104(a)(1), respectively. These exemptions are needed to retain the fish on deck for the purpose of scientific research. Additionally, since the research trips may be conducted during a commercial squid trip, an exemption from the summer flounder minimum mesh size regulation is also needed in order for the vessels to retain more than the incidental limit of 100 lb (45.4 kg) of summer flounder. After the research, is conducted the fish would be returned to sea, unless the vessel is currently allocated 2009 research set- aside and has been issued a current and separate EFP to harvest research set-aside quota.

Regulations under the Magnuson ndash;Stevens Fishery Conservation and Management Act require publication of this notification to provide interested parties the opportunity to comment on applications for proposed EFPs. The applicant may place requests for minor modifications and extensions to the EFP throughout the year. EFP modifications and extensions may be granted without further notice if they are deemed essential to facilitate completion of the proposed research and minimal so as not to change the scope or impact of the initially approved EFP request.

Authority: 16 U.S.C. 1801 et seq.

Dated: July 8, 2009.
Kristen C. Koch
Acting Director, Office of Sustainable Fisheries, National Marine Fisheries Service.

[FR Doc. E9-16528 Filed 7-10-09; 8:45 am]

BILLING CODE 3510-22-S